DEPARTMENT OF THE INTERIOR

Bureau of Land Management

[HE-952-9911-EK]

OMB Approval Number 1004-0179; Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On November 28, 2000, the BLM published a notice in the Federal Register (65 FR 70932) requesting comment on this proposed collection. The comment period ended on January 29, 2001. The BLM received no comments from the public in response to that notice. You may obtain copies of the proposed collection of information and related forms and explanatory material by contacting the BLM Information Collection Clearance Officer at the telephone number listed below.

The OMB is required to respond to this request within 60 days but may respond after O.S.C 30 days directly to the Office of Management and Budget, Interior Department Desk Officer (1004-0179), Office of Information and Regulatory Affairs, Washington, DC 20503. Please provide a copy of your comments to the Bureau Information Clearance Officer (WO-630), 1849 C St., NW, Mail Stop 401LS, Washington, DC 20240.

Nature of Comments: We specifically request your comments on the following:

1. Whether the collection of information is necessary for the proper functioning of the BLM, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: In-Kind Crude Helium Sales Contract (43 CFR 3195).

OMB Approval Number: 1004-0179.

Bureau Form Number: None.

Abstract: The Bureau of Land Management is proposing to renew the approval of an information collection for the regulations located at 43 CFR part 3195. The respondents are Federal agencies and helium suppliers (contractors) who purchase major helium requirements and report to BLM the sales information for an accurate account of helium to Federal agencies from Federal helium suppliers.

Frequency: Quarterly and annually.

Description of Respondents: Federal agencies and helium contractors.

Estimated Completion Time: 3 hours (1 hour for the In-Kind Crude Helium Sales Contract and 15 minutes to 2 hours for the required information under 43 CFR part 3195).

Annual Responses: 304.

Filing Fee Per Response: 0.

Annual Burden Hours: 912.

Bureau Clearance Officer: Michael Schwartz, 202-452-5033.

Dated: February 15, 2001.
Michael Schwartz,
BLM Information Collection Clearance Officer.

[FR Doc. 01-11375 Filed 5-4-01; 8:45 am]

BILLING CODE 4310-84-M